DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's List of Specially Designated Nationals and Blocked Persons (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On October 19, 2022, OFAC determined that the property and interests in property subject to U.S. jurisdiction of the following persons are blocked under the relevant sanctions authority listed below.

Individuals

1. VALENZUELA VALENZUELA, Juan Francisco, Mexico; DOB 03 Dec 1979; POB Sinaloa, Mexico; nationality Mexico; Gender Male; C.U.R.P. VAVJ791203HSLLLN08 (Mexico) (individual) [ILLICIT-DRUGS-EO14059]. Designated pursuant to section 1(a)(i) of Executive Order 14059 of December 15, 2021, “Imposing Sanctions on Foreign Persons Involved in the Global Illicit Drug Trade” (E.O. 14059), 86 FR 71549, for having engaged in, or attempted to engage in, activities or transactions that have materially contributed to, or pose a significant risk of materially contributing to, the international proliferation of illicit drugs or their means of production.

2. RIVAS CHAIRES, Raul, Mexico; DOB 08 Dec 1970; POB Sonora, Mexico; nationality Mexico; Gender Male; C.U.R.P. RICR701208HSRVHL06 (Mexico) (individual) [ILLICIT-DRUGS-EO14059]. Designated pursuant to section 1(a)(i) of E.O. 14059 for having engaged in, or attempted to engage in, activities or transactions that have materially contributed to, or pose a significant risk of materially contributing to, the international proliferation of illicit drugs or their means of production.

3. ARAUJO PERALTA, Hector Alfonso, Mexico; DOB 21 Apr 1968; POB Sinaloa, Mexico; nationality Mexico; Gender Male; C.U.R.P. AAPH680421HSLRRC05 (Mexico) (individual) [ILLICIT-DRUGS-EO14059]. Designated pursuant to section 1(a)(i) of E.O. 14059 for having engaged in, or attempted to engage in, activities or transactions that have materially contributed to, or pose a significant risk of materially contributing to, the international proliferation of illicit drugs or their means of production.

Entities

4. VALENZUELA DRUG TRAFFICKING ORGANIZATION, Mexico; Target Type Criminal Organization [ILLICIT-DRUGS-EO14059]. Designated pursuant to section 1(a)(i) of E.O. 14059 for having engaged in, or attempted to engage in, activities or transactions that have materially contributed to, or pose a significant risk of materially contributing to, the international proliferation of illicit drugs or their means of production.

5. ARFEL TRANSPORTADORA COOL LOGISTIC, S.A. DE C.V. (a.k.a. “ARFEL COOL LOGISTICS”), Guadalajara, Jalisco, Mexico; Organization Established Date 17 Nov 2015; Folio Mercantil No. 93093 (Mexico) [ILLICIT-DRUGS-EO14059]. Designated pursuant to section 1(a)(i) of E.O. 14059 for having engaged in, or attempted to engage in, activities or transactions that have materially contributed to, or pose a significant risk of materially contributing to, the international proliferation of illicit drugs or their means of production.

6. SERVICIOS DE TRANSPORTE MARUHA, SOCIEDAD ANONIMA DE CAPITAL VARIABLE (a.k.a. “MARUHA REFRIGERADOS”), Culiacan, Sinaloa, Mexico; Organization Established Date 15 Mar 2012; Folio Mercantil No. 81512 (Mexico) [ILLICIT-DRUGS-EO14059]. Designated pursuant to section 1(a)(i) of E.O. 14059 for having engaged in, or attempted to engage in, activities or transactions that have materially contributed to, or pose a significant risk of materially contributing to, the international proliferation of illicit drugs or their means of production.

7. TRANSPORTES REFRIGERADOS PANDAS TRUCKING, SOCIEDAD ANONIMA DE CAPITAL VARIABLE (a.k.a. “PANDAS FRIOS”), Culiacan, Sinaloa, Mexico; Organization Established Date 02 Mar 2012; Folio Mercantil No. 81513 (Mexico) [ILLICIT-DRUGS-EO14059]. Designated pursuant to section 1(a)(i) of E.O. 14059 for having engaged in, or attempted to engage in, activities or transactions that have materially contributed to, or pose a significant risk of materially contributing to, the international proliferation of illicit drugs or their means of production.

Dated: October 19, 2022.
Andrea M. Gacki,
Director, Office of Foreign Assets Control, U.S. Department of the Treasury.

[FR Doc. 2022-23036 Filed 10-21-22; 8:45 am]

BILLING CODE 4810-AL-P